GENERAL SERVICES ADMINISTRATION

[Notice-FTR-2014-06; Docket No. 2014-0002; Sequence 29]

Maximum Per Diem Rates for the Continental United States (CONUS)

AGENCY: Office of Government-wide Policy (OGP), General Services Administration (GSA).

ACTION: Notice of GSA Per Diem Bulletin FTR 15-01, Fiscal Year (FY) 2015 Continental United States (CONUS) per diem rates.

SUMMARY: The General Services Administration's (GSA) Fiscal Year (FY) 2015 per diem review has resulted in lodging and meal allowance changes for certain locations within the Continental United States (CONUS) to provide for reimbursement of Federal employees' expenses covered by per diem.

DATES: Effective: August 15, 2014.

Applicability: This notice applies to travel performed on or after October 1, 2014 through September 30, 2015.

FOR FURTHER INFORMATION CONTACT: For clarification of content, contact Ms. Jill Denning, Office of Government-wide Policy, Office of Asset and Transportation Management, at 202-208-7642, or by email at travelpolicy@gsa.gov. Please cite Notice of GSA Per Diem Bulletin FTR 15-01.

SUPPLEMENTARY INFORMATION:

Background: GSA identified two new non-standard areas (NSAs): Kayenta, AZ (Navajo County), and San Angelo, TX (Tom Green County). Elmore County, ID is now included with the Sun Valley, ID NSA location. The Middlebury, VT (Addison County) NSA has been combined with the Burlington/St. Albans, VT (Chittenden/Franklin Counties) NSA. Finally, the Manhattan NSA has been renamed New York City, which more accurately recognizes that GSA no longer sets rates for individual New York City boroughs as had been done in the past.

The standard lodging per diem rate will remain at $83. The meals and incidental expense tiers also remain unchanged for FY 2014 and range from $46-$71.

The CONUS per diem rates prescribed in Bulletin 15-01 may be found at www.gsa.gov/perdiem. GSA bases the lodging rates on the average daily rate that the lodging industry reports to an independent organization. If a lodging rate or a per diem rate is insufficient to meet necessary expenses in any given location, Federal executive agencies can request that GSA review that location. Please review numbers five and six of GSA's per diem Frequently Asked Questions at (www.gsa.gov/perdiemfaqs) for more information on the special review process.

In addition, the Federal Travel Regulation allows for actual expense reimbursement as provided in §§ 301-11.300 through 301-11.306.

GSA issues and publishes the CONUS per diem rates, formerly published in Appendix A to 41 CFR Chapter 301, solely on the Internet at www.gsa.gov/perdiem. This process, implemented in 2003, ensures more timely changes in per diem rates established by GSA for Federal employees on official travel within CONUS. Notices published periodically in the Federal Register, such as this one, now constitute the only notification of revisions in CONUS per diem rates to agencies.

Dated: August 7, 2014.
Carolyn Austin-Diggs,
Acting Deputy Associate Administrator, Office of Asset and Transportation Management.

[FR Doc. 2014-19078 Filed 8-14-14; 8:45 am]

BILLING CODE 6820-14-P